DEPARTMENT OF THE INTERIOR

Fish and Wildlife Service

[Docket No. FWS-R2-ES-2025-N019; FXES11130200000-256-FF02ENEH00]

Endangered and Threatened Wildlife and Plants; Initiation of 5-Year Status Reviews of 3 Species in the Southwest

AGENCY: Fish and Wildlife Service, Interior.

ACTION: Notice of initiation of reviews; request for information.

SUMMARY: We, the U.S. Fish and Wildlife Service, are conducting 5-year status reviews of 3 plant species under the Endangered Species Act. A 5-year status review is based on the best scientific and commercial data available at the time of the review; therefore, we are requesting submission of any such information that has become available since the last reviews for the species.

DATES: To ensure consideration, we are requesting submission of new information no later than August 14, 2025. However, we will continue to accept new information about any listed species at any time.

ADDRESSES: For details on how to request or submit information, see Request for Information and How Do I Ask Questions or Provide Information? in the SUPPLEMENTARY INFORMATION section.

FOR FURTHER INFORMATION CONTACT: For information on a particular species, contact the appropriate person or office listed in the table in the SUPPLEMENTARY INFORMATION section. For general information, contact Beth Forbus, by telephone at 505-318-8972 or by email at Beth_Forbus@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Why do we conduct 5-Year reviews?

Under the Endangered Species Act of 1973, as amended (ESA; 16 U.S.C. 1531 et seq.), we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year status reviews, refer to our factsheet at https://www.fws.gov/project/five-year-status-reviews.

What information do we consider in our review?

A 5-year status review considers all new information available at the time of the review. In conducting these reviews, we consider the best scientific and commercial data that have become available since the listing determination or most recent status review, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the ESA); and

E. Other new information, data, or corrections, including but not limited to taxonomic or nomenclatural changes, identification of erroneous information contained in the List, and improved analytical methods.

Any new information will be considered during the 5-year status review and will also be useful in evaluating the ongoing recovery programs for the species.

Which species are under review?

The species in table 1 are under active 5-year status review.

Table 1—Species Under Active 5-Year Status Review
Species | Scientific name | Status | Location | Listing citations and applicable rules | Contact | Address
PLANTS
Tobusch fishhook cactus | Sclerocactus brevihamatus ssp. tobuschii | Threatened | Texas | 44 FR 64736; 11/7/1979, 83 FR 22392; 5/15/2018 | Field Supervisor, 512-937-7371 (phone) or esaustininfo@fws.gov (email) | U.S. Fish and Wildlife Service, Austin Ecological Services Field Office, 1505 Ferguson Lane, Austin, TX 78754
Chisos Mountain hedgehog cactus | Echinocereus chisoensis var. chisoensis | Threatened | Texas | 53 FR 38453; 9/30/1988
Bunched Cory cactus | Coryphantha ramillosa | Threatened | Texas | 44 FR 64247; 11/6/1979

Request for Information

To ensure that a 5-year status review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species under review, please submit your comments and materials to the appropriate contact in table 1. You may also direct questions to those contacts. For general questions, contact the person under FOR FURTHER INFORMATION CONTACT.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Leston Jacks,
Acting Regional Director, Southwest Region, U.S. Fish and Wildlife Service.

[FR Doc. 2025-13209 Filed 7-14-25; 8:45 am]

BILLING CODE 4333-15-P